DEPARTMENT OF LABOR

Employment and Training Administration

[TA-W-51,257]

Mason Shoe Manufacturing Co., Chippewa Falls, WI; Notice of Termination of Investigation

Pursuant to section 221 of the Trade Act of 1974, as amended, an investigation was initiated on March 21, 2003 in response to a petition filed by the United Food and Commercial Workers, Local 268 on behalf of workers at Mason Shoe Manufacturing Company, Chippewa, Wisconsin.

The petitioning group of workers is covered by an active certification (TA-W-41,017) which remains in effect until March 20, 2004. Consequently, further investigation in this case would serve no purpose, and the investigation has been terminated.

Signed at Washington, DC, this 25th day of March, 2003.
Linda G. Poole,
Certifying Officer, Division of Trade Adjustment Assistance.

[FR Doc. 03-8914 Filed 4-10-03; 8:45 am]

BILLING CODE 4510-30-P